DEPARTMENT OF TRANSPORTATION

Federal Aviation Administration

14 CFR Part 39

[Docket No. 2001-SW-20-AD; Amendment 39-12680; AD 2002-06-04]

RIN 2120-AA64

Airworthiness Directives; Eurocopter France Model AS350B, AS350B1, AS350B2, AS350B3, AS350BA, AS350C, AS350D, AS350D1, AS355E, AS355F, AS355F1, AS355F2, and AS355N Helicopters; Correction

AGENCY: Federal Aviation Administration, DOT.

ACTION: Final rule; correction.

SUMMARY: This document corrects Airworthiness Directive (AD) 2002-06-04 for the specified Eurocopter France helicopters that was published in the Federal Register on March 20, 2002 (67 FR 12858). The effective date as stated in paragraph (f) of the AD is incorrect, and this document corrects that effective date. In all other respects, the original document remains the same.

DATES: Effective April 24, 2002.

FOR FURTHER INFORMATION CONTACT: Jim Grigg, Aviation Safety Engineer, FAA, Rotorcraft Directorate, Rotorcraft Standards Staff, Fort Worth, Texas 76193-0110, telephone (817) 222-5490, fax (817) 222-5961.

SUPPLEMENTARY INFORMATION: The FAA issued a final rule AD 2002-06-04 on March 11, 2002 (67 FR 12858, March 20, 2002) for the specified Eurocopter France helicopters. The following correction is needed:

The effective date given in paragraph (f) of the AD was intended to be the same effective date of April 24, 2002, as stated in the “Effective Date” line. Therefore, the date in paragraph (f) needs correcting.

Since no other part of the regulatory information has been revised, the final rule is not being republished.

Correction of Publication

Accordingly, the publication on March 20, 2002 of the final rule (AD 2002-06-04) which was the subject of FR Doc. 02-6626 is corrected as follows:

§ 39.13 [Corrected]

On page 12859, in the second column, in AD 2002-06-04, paragraph (f), correct “April 4, 2002” to read “April 24, 2002”.

Issued in Fort Worth, Texas, on April 29, 2002.
David A. Downey,
Manager, Rotorcraft Directorate, Aircraft Certification Service.

[FR Doc. 02-11805 Filed 5-10-02; 8:45 am]

BILLING CODE 4910-13-P